DEPARTMENT OF COMMERCE

National Telecommunications and Information Administration

Submission for OMB Review; Comment Request

The Department of Commerce will submit to the Office of Management and Budget (OMB) for clearance the following proposal for collection of information under the provisions of the Paperwork Reduction Act (44 U.S.C. Chapter 35).

Agency: National Telecommunications and Information Administration (NTIA).

Title: Submission of proposed information collection; Computer and Internet Use Supplement to the Census Bureau's Current Population Survey (CPS).

OMB Control Number: 0660-0021.

Form Number(s): None.

Type of Request: Regular submission (Revision of a currently approved collection).

Estimated Number of Respondents: 54,000 households.

Estimated Time per Response: 10 minutes.

Estimated Total Annual Burden Hours: 9,000.

Estimated Total Annual Cost to Public: $0.

Needs and Uses: As the next installment of a decades-long series of data collections, NTIA proposes to add 66 questions to the U.S. Census Bureau's (“Bureau”) November 2017 CPS to gather reliable data on computer and broadband (also known as high-speed Internet) use by U.S. households. President Trump has expressed support for broadband expansion in the United States, particularly in rural communities, stating an intention to include broadband in the $1 trillion infrastructure plan the Administration is developing.¹ In addition, Secretary of Commerce Wilbur Ross has noted broadband's importance to the nation's future and its economic policy, including at his confirmation hearing in January 2017.²

¹ See Remarks by President Trump on Agricultural Innovation in Cedar Rapids, IA (June 21, 2017) at https://www.whitehouse.gov/the-press-office/2017/06/22/remarks-president-trump-agricultural-innovation-cedar-rapids-ia. See also Remarks by President Trump in Listening Session with Members of Congress (Feb. 16, 2017) at https://www.whitehouse.gov/the-press-office/2017/02/16/remarks-president-trump-listening-session-members-congress.

² See Amir Nasr, Here's What Ross Said About Tech Policy During His Confirmation Hearing, Morning Consult (Jan. 18, 2017) at https://morningconsult.com/2017/01/18/heres-ross-said-tech-policy-confirmation-hearing/.

To aid the Administration's plan to incorporate broadband in the upcoming infrastructure initiative and ensure the digital preparedness of the nation's current and future workforce, NTIA data will reveal consumers' changing demand for broadband, as well as their online activities. The information may inform decisions about the scope and scale of the needed infrastructure, particularly in remote and sparsely populated areas where broadband deployment may be difficult and costly. It may also shed light on opportunities to increase digital literacy and use among Americans who currently use the Internet sparingly, if at all. NTIA works with Congress, the Federal Communications Commission (FCC), and other stakeholders to develop and advance economic and regulatory policies that foster broadband deployment and adoption. Current, systematic, and comprehensive data on broadband use and non-use by U.S. households are critical to allow policymakers not only to gauge progress made to date, but also to identify problem areas with a specificity that permits carefully targeted and cost effective responses.

The U.S. government's critical need for comprehensive broadband data continues to increase as high-speed Internet access and the skills to use the technology are becoming essential to Americans' daily lives and to the nation's economy. The U.S. Government Accountability Office, NTIA, and the FCC have all issued reports noting the importance of useful broadband adoption data for policymakers. Congress sought to address the paucity of such information in the Broadband Data Improvement Act in 2008 and the American Recovery and Reinvestment Act in 2009, and recent congressional action has highlighted the need for more accurate broadband data.³ Modifying the November 2017 CPS to include NTIA's requested information collection will enable the Commerce Department and NTIA to advance the Administration's infrastructure initiative, as well as to respond to congressional concerns and directives.

³ See e.g., Dean Heller, U.S. Senator for Nevada, Heller, Manchin Introduce Bill to Expand Access to Rural Broadband (June 15, 2017) at https://www.heller.senate.gov/public/index.cfm/pressreleases?ID=D1AC86C9-DAC4-43F1-B72D-E6CE577C3925; U.S. House Energy and Commerce Committee, #SubCommTech Examines Further Challenges and Opportunities to Achieve Nationwide Broadband Coverage (June 21, 2017) at https://energycommerce.house.gov/news-center/press-releases/subcommtech-examines-further-challenges-and-opportunities-achieve.

Since 1994, NTIA has sponsored 13 supplements to the CPS on the Internet and the shifting technologies consumers use for online access. The Census Bureau enjoys an outstanding reputation for data gathering and analysis based on its centuries of experience and its scientific methods. Coordinating NTIA's requested information collection on broadband usage with the Bureau's scheduled November 2017 CPS will significantly reduce the potential burdens on that agency and on surveyed households. The 66 questions to be added to the November 2017 CPS are comparable to the 61 questions that NTIA added to the July 2015 CPS.

Affected Public: Individuals and households.

Frequency: Once.

Respondent's Obligation: Voluntary.

This information collection request may be viewed at reginfo.gov. Follow the instructions to view Department of Commerce collections currently under review by OMB.

Written comments and recommendations for the proposed information collection should be sent within 30 days of publication of this notice to OIRA_Submission@omb.eop.gov or faxed to (202) 395-5806.

Sheleen Dumas,
Department al PRA Lead, Office of the Chief Information Officer.

[FR Doc. 2017-16255 Filed 8-1-17; 8:45 am]

BILLING CODE 3510-60-P